DEPARTMENT OF ENERGY

Federal Energy Regulatory Commission

Combined Notice of Filings # 1

May 12, 2006.

Take notice that the Commission received the following electric rate filings.

Docket Numbers: ER06-857-001.

Applicants: Energy Resource Management Corp.

Description: Energy Resource Management Corp. submits an amended FERC Electric Tariff Rate Schedule 1.

Filed Date: May 3, 2006.

Accession Number: 20060508-0152.

Comment Date: 5 p.m. Eastern Time on Wednesday, May 24, 2006.

Docket Numbers: ER06-868-001.

Applicants: Florida Power Corporation.

Description: Florida Power Corp. submits revised tariff sheets to its Rate Schedule No. 176.

Filed Date: May 5, 2006.

Accession Number: 20060509-0113.

Comment Date: 5 p.m. Eastern Time on Friday, May 26, 2006.

Docket Numbers: ER06-945-000.

Applicants: TXU Electric Company.

Description: TXU Electric Delivery Co. submits its Second Revised Sheet Nos. 37-38 to FERC Electric Tariff, Ninth Revised Volume No. 1, effective May 31, 2004.

Filed Date: May 5, 2006.

Accession Number: 20060509-0112.

Comment Date: 5 p.m. Eastern Time on Friday, May 26, 2006.

Docket Numbers: ER06-946-000.

Applicants: TXU Electric Delivery Company.

Description: TXU Electric Delivery Co. submits its Second Revised Sheet No. 34 to FERC Electric Tariff, Fourth Revised Volume

No. 2, effective May 31, 2004.

Filed Date: May 5, 2006.

Accession Number: 20060509-0111.

Comment Date: 5 p.m. Eastern Time on Friday, May 26, 2006.

Docket Numbers: ER06-947-000.

Applicants: Northeast Utilities Service Company.

Description: Northeast Utilities Service Co. on behalf of The Connecticut Light and Power Co. et al. submits a notice of Cancellation of Rate Schedule FERC Nos. 496 and 382.

Filed Date: May 5, 2006.

Accession Number: 20060509-0118.

Comment Date: 5 p.m. Eastern Time on Friday, May 26, 2006.

Docket Numbers: ER06-948-000.

Applicants: Pacific Gas and Electric Company.

Description: Pacific Gas and Electric Co. submits executed Facilities Agreements with the City and County of San Francisco.

Filed Date: May 1, 2006.

Accession Number: 20060502-0074.

Comment Date: 5 p.m. Eastern Time on Monday, May 22, 2006.

Docket Numbers: ER06-949-000.

Applicants: Pacific Gas and Electric Company.

Description: Pacific Gas and Electric Gas Co. submits a notice of cancellation of Rate Schedule FERC No. 209.

Filed Date: May 4, 2006.

Accession Number: 20060504-0174.

Comment Date: 5 p.m. Eastern Time on Thursday, May 25, 2006.

Docket Numbers: ER06-950-000.

Applicants: The Cincinnati Gas & Electric Company.

Description: The Cincinnati Gas & Electric Co. dba Duke Energy Ohio Inc. submits a notice of succession notifying the Commission effective April 10, 2006 that it has succeeded by merger to the tariff of Duke Fayette.

Filed Date: May 5, 2006.

Accession Number: 20060509-0117.

Comment Date: 5 p.m. Eastern Time on Friday, May 26, 2006.

Docket Numbers: ER06-951-000.

Applicants: The Cincinnati Gas & Electric Company.

Description: The Cincinnati Gas & Electric Co. dba Duke Energy Ohio Inc. submits a notice of succession notifying the Commission effective April 10, 2006 that it has succeeded by merger to the tariff of Duke Washington.

Filed Date: May 5, 2006.

Accession Number: 20060509-0116.

Comment Date: 5 p.m. Eastern Time on Friday, May 26, 2006.

Docket Numbers: ER06-952-000.

Applicants: The Cincinnati Gas & Electric Company.

Description: The Cincinnati Gas & Electric Co dba Duke Energy Ohio, Inc. submits a notice of succession notifying the Commission that effective April 10, 2006 it has succeeded by merger to the tariff of Duke Energy Hanging Rock, LLC.

Filed Date: May 5, 2006.

Accession Number: 20060509-0115.

Comment Date: 5 p.m. Eastern Time on Friday, May 26, 2006.

Docket Numbers: ER06-953-000.

Applicants: The Cincinnati Gas and Electric Company.

Description: The Cincinnati Gas and Electric Co dba Duke Energy Ohio submits a notice of cancellation of Duke Vermillion's Test Power Purchase Agreement designated as Rate Schedule FERC 1.

Filed Date: May 4, 2006.

Accession Number: 20060509-0114.

Comment Date: 5 p.m. Eastern Time on Thursday, May 25, 2006.

Docket Numbers: ER06-954-000.

Applicants: PJM Interconnection, LLC.

Description: PJM Interconnection, LLC submits its report on allocation of cost responsibility for transmission upgrades and revised tariff sheets.

Filed Date: May 4, 2006.

Accession Number: 20060509-0107.

Comment Date: 5 p.m. Eastern Time on Monday, June 5, 2006.

Docket Numbers: ER06-955-000.

Applicants: American Transmission Company LLC.

Description: American Transmission Co, LLC submits an executed Distribution-Transmission Interconnection Agreement with Alger Delta Cooperative Association.

Filed Date: May 4, 2006.

Accession Number: 20060509-0055.

Comment Date: 5 p.m. Eastern Time on Thursday, May 25, 2006.

Docket Numbers: ER06-956-000.

Applicants: American Transmission Company LLC.

Description: American Transmission Co, LLC submits an executed Distribution -Transmission Interconnection Agreement with New Holstein Utilities.

Filed Date: May 4, 2006.

Accession Number: 20060509-0207.

Comment Date: 5 p.m. Eastern Time on Thursday, May 25, 2006.

Docket Numbers: ER06-957-000.

Applicants: American Transmission Company LLC.

Description: American Transmission Co LLC submits an executed Distribution-Transmission Interconnection Agreement with Two Rivers Water & Light.

Filed Date: May 4, 2006.

Accession Number: 20060509-0110.

Comment Date: 5 p.m. Eastern Time on Thursday, May 25, 2006.

Docket Numbers: ER99-1004 -006; ER00-2738-005; ER00-2740-005; ER01-1721-003; ER02-564-003; ER02-257-006.

Applicants: Entergy Nuclear Generation Company; Entergy Nuclear FitzPatrick, LLC; Entergy Nuclear Indian Point 3, LLC; Entergy Nuclear Indian Point 2, LLC; Entergy Nuclear Vermont Yankee, LLC; Northern Iowa Windpower LLC.

Description: Entergy Services, Inc. submits modifications to its December 14, 2005 filing.

Filed Date: May 4, 2006.

Accession Number: 20060509-0039.

Comment Date: 5 p.m. Eastern Time on Monday, May 15, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-7691 Filed 5-19-06; 8:45 am]

BILLING CODE 6717-01-P